NATIONAL SCIENCE FOUNDATION

Sunshine Act Meetings

FEDERAL REGISTER CITATION OF PREVIOUS ANNOUNCEMENT: The meeting was noticed on January 25, 2024, at 89 FR 4998.

PREVIOUSLY ANNOUNCED TIME AND DATE OF THE MEETING: Monday, January 26, 2024, from 3:00-5:00 p.m. Eastern.

CHANGE IN THE MEETING: The correct date for the meeting is Monday, January 29, 2024. The time remains the same.

CONTACT PERSON FOR MORE INFORMATION: Point of contact for this meeting is: Chris Blair, cblair@nsf.gov, 703/292-7000.

Christopher Blair,
Executive Assistant to the National Science Board Office.

[FR Doc. 2024-01851 Filed 1-26-24; 11:15 am]

BILLING CODE 7555-01-P